FEDERAL MARITIME COMMISSION

Notice of Agreements Filed

The Commission hereby gives notice of the filing of the following agreements under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of the agreements are available through the Commission's website (www.fmc.gov) or by contacting the Office of Agreements at (202) 523-5793 or tradeanalysis@fmc.gov.

Agreement No.: 201444-001.

Agreement Name: ONE to HMM AL5 Space Charter Agreement.

Parties: Hyundai Merchant Marine Co. Ltd.; Ocean Network Express Pte. Ltd.

Filing Party: Joshua Stein, Cozen O'Connor.

Synopsis: The Amendment adds Panama to the geographic scope of the Agreement.

Proposed Effective Date: 5/12/2025.

Location: https://www2.fmc.gov/FMC.Agreements.Web/Public/AgreementHistory/88590.

Agreement No.: 201445-001.

Agreement Name: ONE to YML AL5 Slot Charter Agreement.

Parties: Ocean Network Express Pte. Ltd.; Yang Ming Joint Service Agreement.

Filing Party: Wayne Rohde, Cozen O'Connor.

Synopsis: The Amendment adds Peru, Ecuador, and Panama to the geographic scope of the Agreement.

Proposed Effective Date: 6/26/2025.

Location: https://www2.fmc.gov/FMC.Agreements.Web/Public/AgreementHistory/88591.

Dated: May 16, 2025.
Alanna Beck,
Federal Register Alternate Liaison Officer.

[FR Doc. 2025-09126 Filed 5-20-25; 8:45 am]

BILLING CODE 6730-02-P